DEPARTMENT OF VETERANS AFFAIRS

Solicitation of Nominations for Appointment to the Advisory Committee on Homeless Veterans

ACTION: Notice.

SUMMARY: The Department of Veterans Affairs (VA), Veterans Health Administration (VHA) Homeless Programs, is seeking nominations of qualified candidates to be considered for appointment as a member of the Advisory Committee on Homeless Veterans (herein-after in this section referred to as “the Committee”). In accordance with 38 U.S.C. § 2066, the Committee provides advice to the Secretary, through the Under Secretary for Health, on the provision of benefits and services to homeless Veterans. In providing this advice, the Committee assembles and reviews information relating to the needs of homeless Veterans; provides an ongoing assessment of the effectiveness of the policies, organizational structures, and services of VA in assisting homeless Veterans; and provides ongoing advice on the most appropriate means of providing assistance to homeless Veterans.

DATES: Nominations for membership on the Committee must be received no later than 5:00 p.m. E.S.T. on September 30, 2014.

ADDRESSES: All nominations should be mailed to the VHA Homeless Programs, Department of Veterans Affairs, 810 Vermont Ave. NW (882)., Washington, DC 20420, or Email to Anthony.love@va.gov.

FOR FURTHER INFORMATION CONTACT: Mr. Anthony Love, VHA Homeless Programs, Department of Veterans Affairs, 810 Vermont Ave. NW (882)., Washington, DC 20420, Telephone (202) 461-1902. A copy of the Committee charter and list of the current membership can be obtained by contacting Mr. Love or by accessing the Federal Advisory Committee Act Web site: http://facadatabase.gov/committee/members.aspx?cid=1882.

SUPPLEMENTARY INFORMATION: The Committee is authorized by statute, 38 United States Code (U.S.C.) § 2066, and operates under the provisions of the Federal Advisory Committee Act, as amended, 5 U.S. C. Appendix 2. The Committee membership consists of representatives from Veterans Service Organizations; advocates on behalf of homeless Veterans and other homeless individuals; community-based providers of services to homeless individuals; previously homeless Veterans; State Veterans affairs officials; experts in the treatment of individuals with mental illness; experts in the treatment of substance use disorders; experts in the development of permanent housing alternatives for lower income populations; experts in vocational rehabilitation; and other such organizations or groups as the Secretary considers appropriate.

The Committee's responsibilities are set forth in § 2066 and include:

(1) Advising the Secretary and Congress on VA's administration of benefits and provision of healthcare, benefits, and services to homeless Veterans.

(2) Providing an Annual report to the Secretary that includes an assessment of the needs of homeless Veterans, a review of programs and activities of VA designed to meet such needs, and such recommendations as the Committee considers appropriate.

(3) Provide ongoing advice on the most appropriate means of providing assistance to homeless Veterans.

Management and support services for the Committee are provided by VHA Homeless Program Office.

Nominations: VHA Homeless Programs is requesting nominations for upcoming vacancies on the Committee. The Committee is currently composed of 12 members and by statute, is limited to 15 members, in addition to ex-officio members. This announcement is seeking nominations for Committee members. The members of the Committee are appointed by the Secretary of Veterans Affairs from the general public, including:

(1) Veterans Service Organizations;

(2) Advocates of homeless Veterans and other homeless individuals

(3) Community-based providers of services to homeless individuals;

(4) Previously homeless Veterans;

(5) State Veterans affairs officials;

(6) Experts in the treatment of individuals with mental illness;

(7) Experts in the treatment of substance use disorders;

(8) Experts in the development of permanent housing alternatives for lower income populations;

(9) Experts in vocational rehabilitation;

(10) Such other organizations or groups as the Secretary considers appropriate.

The Secretary shall determine the terms of service and allowances of the members of the Committee, except that a term of service may not to exceed 3 years. The Secretary may reappoint any member for an additional term of service. Several members may be Regular Government Employees, but the majority of the Committee's membership will be Special Government Employees.

Requirements for Nomination Submission: Nominations should be type written (one nomination per nominator). Nomination package should include: (1) A letter of nomination that clearly states the name and affiliation of the nominee, the basis for the nomination (i.e. specific attributes which qualify the nominee for service in this capacity), and a statement from the nominee indicating a willingness to serve as a member of the Committee; (2) the nominee's contact information, including name, mailing address, telephone numbers, and email address; (3) the nominee's curriculum vitae, and (4) a summary of the nominee's experience and qualifications relative to the work of the Committee as described above.

Individuals selected for appointment to the Committee shall be invited to serve a three-year term. Committee members will receive a per diem and reimbursement for travel expenses incurred for attending the meeting.

The Department makes every effort to ensure that the membership of VA federal advisory committees is fairly balanced in terms of points of view represented and the committee's function. Every effort is made to ensure that a broad representation of geographic areas, males and females, racial and ethnic minority groups, and the disabled are given consideration for membership on VA federal advisory committees. Appointment to this Committee shall be made without discrimination because of a person's race, color, religion, sex, national origin, age, disability, or genetic information. Nominations must state that the nominee is willing to serve as a member of the Committee and appears to have no conflict of interest that would preclude membership. An ethics review is conducted for each selected nominee.

Dated: August 6, 2014.
Jelessa Burney,
Federal Advisory Committee Management Officer.

[FR Doc. 2014-18932 Filed 8-8-14; 8:45 am]

BILLING CODE 8320-01-P